ENVIRONMENTAL PROTECTION AGENCY

[FRL-8161-5]

Clean Water Act Section 303(d): Availability of EPA's Decision To Add Bear Creek to Colorado's 2006 List of Water Quality-Limited Segments in Need of TMDLs

AGENCY: Environmental Protection Agency (EPA).

ACTION: Notice of availability.

SUMMARY: Region VIII of the EPA is hereby providing notice, and requesting public comment on EPA's decision to add Bear Creek (Segment COSPBE01a) to Colorado's list of water quality-limited segments in need of total maximum daily loads (TMDLs) pursuant to Clean Water Act Section 303(d)(2). Section 303(d)(2) of the Clean Water Act requires that states submit and EPA approve or disapprove lists of waters for which existing technology-based pollution controls are not stringent enough to attain or maintain state water quality standards and for which TMDLs must be prepared.

On April 12, 2006, EPA partially approved and partially disapproved Colorado's Section 303(d) list submittal for the 2006 listing cycle. Specifically, EPA approved Colorado's listing of 119 waters, associated pollutants, and associated priority rankings. EPA disapproved Colorado's decision not to list one segment of Bear Creek. EPA evaluated all the existing and readily available data and information on the Bear Creek segment and concluded that the aquatic life use in the Bear Creek, which includes the fishery, is not being fully met. Based on this evaluation EPA has determined that the Bear Creek segment is not fully attaining the water quality standards established by the State of Colorado and should be included on the State's list of impaired waters. Therefore, through its partial disapproval of the State's list, EPA added Bear Creek segment COSPBE01a to the State's list. This addition to the State's list includes only a portion of segment COSPBE01a (i.e., Bear Creek from below Evergreen Reservoir to Harriman Ditch).

EPA is providing the public the opportunity to review its decision to add a portion of Bear Creek to Colorado's 2006 Section 303(d) list, as required by EPA's Public Participation regulations. EPA will consider public comments in reaching its final decision to add a portion of Bear Creek segment COSPBE01a to the State's list.

DATES: Comments must be submitted to EPA on or before June 20, 2006.

ADDRESSES: Comments on the proposed decision should be sent to George Parrish, TMDL Team (8EPR-EP), U.S. Environmental Protection Agency Region VIII, 999 18th Street, Suite 300, Denver, CO 80202-2466, telephone (303) 312-7027, facsimile (303) 312-6339, e-mail parrish.george@epa.gov. Oral comments will not be considered. Copies of EPA's letter concerning Colorado's list that explains the rationale for EPA's decision can be obtained at EPA Region VIII's Web site at http://www.epa.gov/region08/water/tmdl, or by writing or calling Mr. Parrish at the above address. The full administrative record containing background technical information is on file and may be inspected at the U.S. EPA, Region VIII Technical Library found in the Environmental Information Service Center (EISC). The Library and Service Center are located on the ground floor at Denver Place, 999 18th Street, Denver, Colorado. The Library is open to the public from 10 a.m. to 4 p.m. The Library can be contacted by calling the Service Center at (303) 312-6312 or (800) 227-8917. Arrangements to examine the administrative record may also be made by contacting George Parrish.

FOR FURTHER INFORMATION CONTACT: George Parrish at (303) 312-7027 parrish.george@epa.gov or Karen Hamilton at (303) 312-6236 or hamilton.karen@epa.gov.

SUPPLEMENTARY INFORMATION: Section 303(d) of the Clean Water Act (CWA) requires that each state identify those waters for which existing technology-based pollution controls are not stringent enough to attain or maintain state water quality standards. For those waters, states are required to establish TMDLs according to a priority ranking.

EPA's Water Quality Planning and Management regulations include requirements related to the implementation of Section 303(d) of the CWA (40 CFR 130.7). The regulations require states to identify water-quality-limited waters still requiring TMDLs every two years. The lists of waters still needing TMDLs must also include priority rankings, identify the pollutants causing the impairment, and must identify the waters targeted for TMDL development during the next two years (40 CFR 130.7).

Consistent with EPA's regulations, Colorado submitted to EPA its listing decisions under Section 303(d)(2) in correspondence dated March 21, 2006. On April 12, 2006, EPA approved Colorado's listing of 119 waters and associated priority rankings. EPA disapproved Colorado's decision not to include Bear Creek in its list. EPA identified a portion of Bear Creek segment COSPBE01a for inclusion on Colorado's 2006 Section 303(d) list. EPA solicits public comment on the addition of a portion of Bear Creek to the State's list, as required by EPA's Public Participation regulations (40 CFR part 25).

Authority: Clean Water Act, 33 U.S.C. 1251 et seq.

Dated: April 17, 2006.
Max H. Dodson,
Assistant Regional Administrator, Office of Ecosystems Protection and Remediation.

[FR Doc. E6-6159 Filed 4-24-06; 8:45 am]

BILLING CODE 6560-50-P